FARM CREDIT ADMINISTRATION

12 CFR Part 630

RIN 3052-AC77

Disclosure to Investors in System-wide and Consolidated Bank Debt Obligations of the Farm Credit System; System Audit Committee; Effective Date

AGENCY: Farm Credit Administration.

ACTION: Notice of effective date.

SUMMARY: The Farm Credit Administration (FCA or Agency), through the FCA Board (Board), issued a final rule under part 630 on September 26, 2012 (77 FR 59050) amending our regulations relating to the Federal Farm Credit Banks Funding Corporation System Audit Committee and the Farm Credit System annual report to investors. In accordance with 12 U.S.C. 2252, the effective date of the final rule is 30 days from the date of publication in the Federal Register during which either or both Houses of Congress are in session. Based on the records of the sessions of Congress, the effective date of the regulations is December 12, 2012.

DATES: Effective Date: Under the authority of 12 U.S.C. 2252, the regulation amending 12 CFR part 630 published on September 26, 2012 (77 FR 59050) is effective December 12, 2012.

FOR FURTHER INFORMATION CONTACT:

Deborah Wilson, Senior Accountant, Office of Regulatory Policy, Farm Credit Administration, McLean, Virginia 22102-5090, (703) 883-4498, TTY (703) 883-4434, or

Laura McFarland, Senior Counsel, Office of General Counsel, Farm Credit Administration, McLean, Virginia 22102-5090, (703) 883-4020, TTY (703) 883-4020.

Authority: 12 U.S.C. 2252(a)(9) and (10).

Dated: December 20, 2012.
Dale L. Aultman,
Secretary, Farm Credit Administration Board.

[FR Doc. 2012-31103 Filed 12-27-12; 8:45 am]

BILLING CODE 6705-01-P